FEDERAL DEPOSIT INSURANCE CORPORATION

Notice of Sunshine Act Meeting

Pursuant to the provisions of the “Government in the Sunshine Act” (5 U.S.C. 552b), notice is hereby given that the Federal Deposit Insurance Corporation's Board of Directors met in open session at 1:30 p.m. on Wednesday, October 30, 2013, to consider the following matters:

Summary Agenda:

Memorandum and resolution re: Proposed Rule Regarding Restrictions on Sales of Assets of a Covered Financial Company by the Federal Deposit Insurance Corporation.

Memorandum and resolution re: Addendum to the Interagency Policy Statement on Income Tax Allocation in a Holding Company Structure.

Discussion Agenda:

Memorandum and resolution re: Notice of Proposed Rulemaking to Implement Liquidity Risk Standards for Certain FDIC Supervised Institutions.

In calling the meeting, the Board determined, on motion of Vice Chairman Thomas M. Hoenig, seconded by Director Jeremiah O. Norton (Appointive), concurred in by Director Thomas J. Curry (Comptroller of the Currency), Director Richard Cordray (Director, Consumer Financial Protection Bureau), and Chairman Martin J. Gruenberg, that Corporation business required its consideration of the matters on less than seven days' notice to the public; and that no earlier notice of the meeting than that previously provided on October 25, 2013, was practicable.

The meeting was held in the Board Room on the sixth floor of the FDIC Building located at 550 17th Street NW., Washington, DC

Dated: October 30, 2013.
Federal Deposit Insurance Corporation.
Valerie J. Best,
Assistant Executive Secretary.

[FR Doc. 2013-26443 Filed 10-31-13; 11:15 am]

BILLING CODE P